DEPARTMENT OF ENERGY

Federal Energy Regulatory Commission

[Docket No. PL04-9-000]

Acquisition and Disposition of Merchant Generation Assets by Public Utilities; Notice of Technical Conference

May 11, 2004.

1. Take notice that a technical conference will be held on acquisitions and dispositions by public utilities on June 10, 2004, from 1 a.m. to 4 p.m. (EST), in the Commission Meeting Room at the Federal Energy Regulatory Commission, 888 First Street, NE., Washington, DC. Members of the Commission will attend the conference. An agenda will be issued at a later time.

The topic of the conference will be issues associated with public utilities' acquisition and disposition of merchant generation assets, including the implications for the competitive landscape in general and for a region's wholesale competition in particular. The conference will discuss proposals for addressing these issues and concerns.

2. The conference will be transcribed. Those interested in acquiring the transcript should contact Ace Reporters at 202-347-3700 or 800-336-6646. Transcripts will be placed in the public record ten days after the Commission receives the transcripts. Additionally, Capitol Connection offers the opportunity for remote listening and viewing of the conference. It is available for a fee, live over the Internet, by phone or via satellite. Persons interested in receiving the broadcast, or who need information on making arrangements, should contact David Reininger or Julia Morelli at Capitol Connection (703-993-3100) as soon as possible or visit the Capitol Connection Web site at http://www.capitolconnection.org and click on “FERC.”

3. For more information about the conference, please contact Mary Beth Tighe at 202-502-6452 or mary.beth.tighe@ferc.gov.

4. A supplemental notice of this conference will be issued later that will provide details of the conference, including the panelists.

Magalie R. Salas,
Secretary.

[FR Doc. E4-1174 Filed 5-14-04; 8:45 am]

BILLING CODE 6717-01-P